DEPARTMENT OF TRANSPORTATION

Office of the Secretary

Notice of Applications for Certificates of Public Convenience and Necessity and Foreign Air Carrier Permits Filed Under Subpart B (formerly Subpart Q) During the Week Ending May 16, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0110.

Date Filed: May 11, 2009.

Due Date for Answers, Conforming Applications, or Motion to Modify Scope: June 1, 2009.

Description: Application of Federal State Unitary Air Enterprise of Ministry For Emergency Situations of Russia requesting a foreign air carrier permit enabling it to engage in charter foreign air transportation of property and mail between a point or points in the Russian Federation and a point or points in the United States and in other charter trips in foreign air transportation, including between any point or points in the United States and any point or points in a third country or countries, subject to pertinent national, bilateral and international rules and regulations.

Docket Number: DOT-OST-2009-0116.

Date Filed: May 12, 2009.

Due Date for Answers, Conforming Applications, or Motion to Modify Scope: June 2, 2009.

Description: Application of Key Lime Air Corp. requesting commuter air carrier authorization so that it may provide scheduled passenger service between Denver's Rocky Mountain Metropolitan Airport (BJC) and Grand Junction, Colorado (GJT).

Docket Number: DOT-OST-2009-0120.

Date Filed: May 14, 2009.

Due Date for Answers, Conforming Applications, or Motion to Modify Scope: June 4, 2009.

Description: Application of Vision Airlines, Inc. (“Vision”) requesting an amendment to its certificate of public convenience and necessity which would authorize Vision to engage in scheduled interstate air transportation of persons, property and mail with large aircraft.

Renee V. Wright,
Program Manager, Docket Operations, Federal Register Liaison.

[FR Doc. E9-12570 Filed 5-28-09; 8:45 am]

BILLING CODE 4910-9X-P